DEPARTMENT OF AGRICULTURE

Federal Crop Insurance Corporation

7 CFR Part 457

RIN 0563-AC08

Common Crop Insurance Regulations; Walnut Crop Insurance Provisions; Almond Crop Insurance Provisions

AGENCY: Federal Crop Insurance Corporation, USDA.

ACTION: Proposed rule with request for comments.

SUMMARY: The Federal Crop Insurance Corporation (FCIC) proposes to amend the Common Crop Insurance Regulations, Walnut Crop Insurance Provisions and Almond Crop Insurance Provisions. The intended effect of this action is to reduce the insurable age requirements for almonds and walnuts because of the new varieties available. These changes will be applicable for the 2007 and succeeding crop years.

DATES: Written comments and opinions on this proposed rule will be accepted until close of business on May 22, 2006, and will be considered when the rule is to be made final.

ADDRESSES: Interested persons are invited to submit written comments to the Director, Product Development Division, Risk Management Agency, United States Department of Agriculture, 6501 Beacon Drive, Stop 0812, Room 421, Kansas City, MO 64133-4676. Comments titled “Almond-Walnut Crop Insurance Provisions” may be sent via the Internet to DirectorPDD@rma.usda.gov, or the Federal eRulemaking Portal: http://www.regulations.gov/. Follow the online instructions for submitting comments. A copy of each response will be available for public inspection and copying from 7 a.m. to 4:30 p.m., c.s.t., Monday through Friday except holidays, at the above address.

FOR FURTHER INFORMATION CONTACT: John McDonald, Risk Management Specialist, Research and Development, Product Development Division, Risk Management Agency, at the Kansas City, MO address listed above, telephone (816) 926-7730.

SUPPLEMENTARY INFORMATION:

Executive Order 12866

The Office of Management and Budget (OMB) has determined that this rule is not significant for the purpose of Executive Order 12866 and, therefore, it has not been reviewed by OMB.

Paperwork Reduction Act of 1995

Pursuant to the Paperwork Reduction Act of 1995 (44 U.S.C. chapter 35), the collections of information in this proposed rule have been approved by (OMB) under control number 0563-0053 through November 30, 2007.

Government Paperwork Elimination Act (GPEA) Compliance

FCIC is committed to compliance with GPEA, which requires Government agencies, in general, to provide the public with the option of submitting information or transacting business electronically to the maximum extent possible. FCIC requires that all reinsured companies be in compliance with the Freedom to E-File Act and section 508 of the Rehabilitation Act.

Unfunded Mandates Reform Act of 1995

Title II of the Unfunded Mandates Reform Act of 1995 (UMRA) establishes requirements for Federal agencies to assess the effects of their regulatory actions on State, local, and tribal governments and the private sector. This rule contains no Federal mandates (under the regulatory provisions of title II of the UMRA) for State, local, and tribal governments or the private sector. Therefore, this rule is not subject to the requirements of sections 202 and 205 of UMRA.

Executive Order 13132

It has been determined under section 1(a) of Executive Order 13132, Federalism, that this rule does not have sufficient implications to warrant consultation with the States. The provisions contained in this rule will not have a substantial direct effect on States, or on the relationship between the national government and the States, or on the distribution of power and responsibilities among the various levels of government.

Regulatory Flexibility Act

FCIC certifies that this regulation will not have a significant economic impact on a substantial number of small entities. Program requirements for the Federal crop insurance program are the same for all producers regardless of the size of their farming operation. For instance, all producers are required to submit an application and acreage report to establish their insurance guarantees and compute premium amounts, and all producers are required to submit a notice of loss and production information to determine the amount of an indemnity payment in the event of an insured cause of crop loss. Whether a producer has 10 acres or 1000 acres, there is no difference in the kind of information collected. To ensure crop insurance is available to small entities, the Federal Crop Insurance Act authorizes FCIC to waive collection of administrative fees from limited resource farmers. FCIC believes this waiver helps to ensure that small entities are given the same opportunities as large entities to manage their risks through the use of crop insurance. A Regulatory Flexibility Analysis has not been prepared since this regulation does not have an impact on small entities, and therefore, this regulation is exempt from the provisions of the Regulatory Flexibility Act (5 U.S.C. 605).

Federal Assistance Program

This program is listed in the Catalog of Federal Domestic Assistance under No. 10.450.

Executive Order 12372

This program is not subject to the provisions of Executive Order 12372, which require intergovernmental consultation with State and local officials. See the Notice related to 7 CFR part 3015, subpart V, published at 48 FR 29115, June 24, 1983.

Executive Order 12988

This proposed rule has been reviewed in accordance with Executive Order 12988 on civil justice reform. The provisions of this rule will not have a retroactive effect. The provisions of this rule will preempt State and local laws to the extent such State and local laws are inconsistent herewith. With respect to any direct action taken by FCIC or to require the insurance provider to take specific action under the terms of the crop insurance policy, the administrative appeal provisions published at 7 CFR part 11 and 7 CFR 400, subpart J for the informal administrative review process of good farming practices, as applicable, must be exhausted before any action against FCIC for judicial review may be brought.

Environmental Evaluation

This action is not expected to have a significant economic impact on the quality of the human environment, health, and safety. Therefore, neither an Environmental Assessment nor an Environmental Impact Statement is needed.

Background

FCIC proposes to amend the Common Crop Insurance Regulations (7 CFR part 457) by revising § 457.122, Walnut Crop Insurance Provisions, and § 457.123, Almond Crop Insurance Provisions effective for the 2007 and succeeding crop years. Currently, the policy requires that almond trees reach the seventh growing season after set out before the almonds are eligible for insurance coverage. Walnut trees need to reach the ninth growing season after set out before the walnuts are eligible for insurance coverage. Set out occurs when the tree is transplanted into the orchard. This rule will reduce the age requirement for insurability of almond trees from the seventh to the sixth year after set out and reduce the age requirement for insurability of walnut trees from the ninth to the seventh year after set out.

This change is being made because newer varieties of almond and walnut trees are more vigorous, and produce at an earlier age. The newer varieties are planted more densely, achieve full canopy sooner, and come into full production earlier. The almond and walnut industries research of breeding programs and cultural practices shows that almonds and walnuts begin bearing production as early as third and fourth growing seasons respectively, and are at full production at the sixth and seventh growing season after set out. Therefore, there is no increased risk from allowing insurance to attach earlier.

List of Subjects in 7 CFR Part 457

Crop insurance, Almonds, Walnuts, Reporting and recordkeeping requirements.

Proposed Rule

Accordingly, as set forth in the preamble, the Federal Crop Insurance Corporation proposes to amend 7 CFR part 457 Common Crop Insurance Regulations, for the 2007 and succeeding crops years, to read as follows:

PART 457—COMMON CROP INSURANCE REGULATIONS

1. The authority citation for 7 CFR part 457 continues to read as follows:

Authority: 7 U.S.C. 1506(1), 1506(p).

2. Amend § 457.122 as follows:

A. Revise the first sentence of the introductory text.

B. Revise paragraph 6(d).

The revisions to § 457.122 read as follows:

§ 457.122 Walnut crop insurance provisions.

The walnut crop insurance provisions for the 2007 and succeeding crop years are as follows:

* * * * *

6. Insured Crop

* * * * *

(d) On acreage where at least 90 percent of the trees have reached at least the seventh growing season after set out, unless otherwise provided in the Special Provisions or by a written agreement that coverage may be provided for trees not meeting this requirement.

* * * * *

3. Amend § 457.123 as follows:

A. Revise the first sentence of the introductory text.

B. Revise paragraph 6(e).

The revision to section 457.123 to read as follows:

§ 457.123 Almond crop insurance provisions.

The almond crop insurance provisions for the 2007 and succeeding crop years are as follows:

* * * * *

6. Insured Crop

* * * * *

(e) On acreage where at least 90 percent of the trees have reached at least the sixth growing season after set out, unless otherwise provided in the Special Provisions or by a written agreement that coverage may be provided for trees not meeting this requirement.

* * * * *

Signed in Washington, DC, on February 28, 2006.
Byron Anderson,
Acting Manager, Federal Crop Insurance Corporation.

[FR Doc. 06-2074 Filed 3-20-06; 8:45 am]

BILLING CODE 3410-08-P